DEPARTMENT OF STATE

[Public Notice: 10908]

Notice of Open Meeting of Advisory Committee on International Law

A meeting of the Department of State's Advisory Committee on International Law will take place on Friday, October 18, 2019, from 9:30 a.m. to 5:00 p.m. at the George Washington University Law School, Michael K. Young Faculty Conference Center, 716 20th St. NW, 5th Floor, Washington, DC. Acting Legal Adviser Marik String will chair the meeting, which will be open to the public up to the capacity of the meeting room. It is anticipated that the meeting will include discussions on privileges and immunities for international organizations, International Criminal Court reform, and the role of states in the development and interpretation of international law.

Members of the public who wish to attend should contact the Office of the Legal Adviser by October 11 at welcherar@state.gov or 202-647-1646 and provide their name, professional affiliation, address, and phone number. A valid photo ID is required for admission to the meeting. Attendees who require reasonable accommodation should make their requests by October 9. Requests received after that date will be considered but might not be possible to accommodate.

Alison Welcher,
Executive Director, Advisory Committee on International Law, Department of State.

[FR Doc. 2019-20807 Filed 9-24-19; 8:45 am]

BILLING CODE 4710-08-P